DEPARTMENT OF HEALTH AND HUMAN SERVICES

Administration for Children and Families

Family and Youth Services Bureau; Positive Youth Development State and Local Collaboration Demonstration Projects

AGENCY: Family and Youth Services Bureau, Administration for Children and Families (ACF), Department of Health and Human Services (HHS).

ACTION: Award announcement.

CFDA#: The Catalog of Federal Domestic Assistance (CFDA) number for this program is 93.623. The title is the Positive Youth Development State and Local Collaboration Demonstration Projects.

Legislative Authority: Grants for Runaway and Homeless Youth programs are authorized by the Runaway and Homeless Youth Act (title III of the Juvenile Justice and Delinquency Prevention Act of 1974), as amended by the Missing, Exploited, and Runaway Children Protection Act of 1999, (Pub. L. 106-71).

Amount of Award: $100,000 per grantee.

Project Period: 9/30/04-9/29/05.

SUMMARY: Notice is hereby given that a noncompetitive grant supplement is being made to the following state agencies: State of Nebraska Health & Human Services, University of Kentucky Research Foundation, State of Oregon, New York Office of Children & Family Services, State of Louisiana, Iowa Dept. of Human Rights Criminal & Juvenile Justice, Commonwealth of Massachusetts, Illinois Department of Human Services, Governor's Office for Children Youth & Families. The purpose of this supplement is to support collaborations between state-level agencies and local community jurisdictions regarding positive development opportunities available to young people as approved in their original planning grant.

FOR FURTHER INFORMATION CONTACT: Administration for Children and Families, Family and Youth Services Bureau, 330 C Street, SW., Washington, DC 20447, Courtney Workman—(202) 205-8657, cworkman@acf.hhs.gov.

Dated: August 22, 2005.
Joan E. Ohl,
Commissioner, Administration on Children, Youth and Families.

[FR Doc. 05-17371 Filed 8-31-05; 8:45 am]

BILLING CODE 4184-01-P